DEPARTMENT OF ENERGY

Federal Energy Regulatory Commission

[Project No. 2086-035, California]

Southern California Edison; Notice of Availability of Environmental Assessment

May 4, 2004.

In accordance with the National Environmental Policy Act of 1969 and the Federal Energy Regulatory Commission's (Commission) regulations, 18 CFR part 380 (Order No. 486, 52 FR 47897), the Office of Energy Projects has reviewed the application for license for the Vermilion Valley Hydroelectric Project and has prepared an Environmental Assessment (EA) for the project. The project is located on Mono and Warm Creeks, near Shaver Lake, within the county of Fresno, California. The project occupies federal lands within the Sierra National Forest, covering a total of 2,202 acres.

The EA contains the staff's analysis of the potential environmental impacts of the project and concludes that licensing the project, with appropriate environmental protective measures, would not constitute a major federal action that would significantly affect the quality of the human environment.

A copy of the EA is on file with the Commission and is available for public inspection. The EA may also be viewed on the Commission's Web site at http://www.ferc.gov using the “eLibrary” link. Enter the docket number excluding the last three digits in the docket number field to access the document. For assistance, contact FERC Online Support at FERCOnlineSupport@ferc.gov or toll-free at 866-208-3676, or for TTY, 202-502-8659.

Any comments should be filed within 45 days from the issuance date of this notice, and should be addressed to the Secretary, Federal Energy Regulatory Commission, 888 First Street, NE., Room 1-A, Washington, DC 20426. Please affix “Vermilion Valley Hydroelectric Project No. 2086” to all comments. Comments may be filed electronically via Internet in lieu of paper. The Commission strongly encourages electronic filings. See 18 CFR 385.2001(a)(1)(iii) and the instructions on the Commission's Web site under the “e-Filing” link. For further information, contact Jim Fargo at 202-502-6095 or by e-mail at jamesfargo@ferc.gov.

After reviewing the comments, the Commission will decide whether to revise this EA and will notify the parities accordingly.

Magalie R. Salas,
Secretary.

[FR Doc. E4-1102 Filed 5-12-04; 8:45 am]

BILLING CODE 6717-01-P